DEPARTMENT OF THE INTERIOR

National Park Service

[NPS-PWR-PWRO-15353; PPPWSEKI00/PX.P0206452A.00.1]

Draft Environmental Impact Statement for the Wilderness Stewardship Plan, Sequoia and Kings Canyon National Parks, California

AGENCY: National Park Service, Interior.

ACTION: Notice of availability.

SUMMARY: The National Park Service announces the availability of a Draft Environmental Impact Statement for the Wilderness Stewardship Plan, Sequoia and Kings Canyon National Parks, California. The plan is needed to provide management direction for two designated wilderness areas, several potential wilderness additions, and an area of proposed wilderness. The plan provides the long-term vision for protecting wilderness character, incorporates new research findings, and uses a new interagency planning framework for preservation of wilderness character. The plan also replaces the current plans-of-record, the 1986 Backcountry Management Plan and its accompanying 1986 Stock Use and Meadow Management Plan.

DATES: All written comments must be postmarked or transmitted not later than 60 days from the date of publication in the Federal Register of the Environmental Protection Agency's notice of filing and release of the DEIS. Upon confirmation of this date, we will notify all entities on the project mailing list, and public announcements about the DEIS review period will be posted on the project Web site http://parkplanning.nps.gov/seki and distributed via local and regional press media.

ADDRESSES: Printed copies of the Draft Environmental Impact Statement for the Wilderness Stewardship Plan (DEIS/WSP) will be available at local public libraries (including Three Rivers, Visalia, Fresno, Bakersfield, Bishop and Lone Pine) and in electronic format online at http://parkplanning.nps.gov/seki. Written comments may be submitted directly to this Web site, or may be submitted by mail, hand delivered, or faxed to: Superintendent, Sequoia and Kings Canyon National Parks, Attn: DEIS/WSP, 47050 Generals Highway, Three Rivers, CA 93271, Fax: (559) 565-4202.

FOR FURTHER INFORMATION CONTACT: Please contact the Sequoia and Kings Canyon National Parks Office of Environmental Compliance and Planning at (559) 565-3102 to speak with an individual.

SUPPLEMENTARY INFORMATION: The DEIS/WSP provides direction for management of visitors and administrative activities within the parks' wilderness. The framework of this WSP is founded on defining the goals and objectives for wilderness management, defining wilderness character for the parks, describing future desired conditions for wilderness, developing visitor use capacity, and determining the types and levels of commercial activities that support wilderness purposes.

The DEIS/WSP addresses visitor capacity, wilderness permitting, group size limits for people and stock, campfire regulations, camping locations and regulations, food storage requirements, human waste management, pack and saddle-stock regulations, stock grazing, maintenance of facilities and trails, and management of frontcountry facilities that support wilderness use. The DEIS/WSP also analyzes and determines the types and extent of commercial services that are “necessary for activities which are proper for realizing the recreational or other wilderness purposes of the areas,” as required by § 4(d)(5) of the Wilderness Act. The DEIS/WSP identifies and evaluates the environmental impacts of five alternatives: the no action alternative; and four action alternatives including a preferred alternative. Upon approval, the Final WSP/Final EIS would be implemented over a period of 15-20 years. The NPS is inviting public review of the DEIS to solicit feedback on the proposed alternatives and to gather ideas and concerns for consideration in the Final EIS.

Email comments will not be accepted. Comments in any format (hard copy or electronic) submitted on behalf of others will not be accepted. Before including your address, phone number, email address, or other personal identifying information in your comment, you should be aware that your entire comment-including your personal identifying information-may be made publicly available at any time. While you can ask us in your comment to withhold your personal identifying information from public review, we cannot guarantee that we would be able to do so. All submissions from organizations and businesses, and individuals identifying themselves as representatives or officials of organizations or businesses, are made available for public inspection in their entirety.

The DEIS/WSP identifies five alternatives: the no action alternative (Alternative 1) is the continuation of the existing management direction as provided by the 1986 Backcountry Management Plan and its accompanying 1986 Stock Use and Meadow Management Plan; Alternatives 2, 3, 4, and 5 (action alternatives) describe a range of reasonable and feasible approaches to meet the purpose and need for action and to achieve the DEIS/WSP objectives. The main variations across the alternatives lie in the key aspects of wilderness management—use levels, access and trails, stock use and grazing, and recreational and administrative infrastructure—which are driven by the different approach to management in each alternative. Each alternative serves visitor and/or operational needs in different ways.

Alternative 2, the management preferred alternative, recognizes that Sequoia and Kings Canyon National Parks wilderness can be broadly categorized as: day use areas close to the frontcountry; popular overnight areas like the High Sierra, John Muir, and Pacific Crest trails; and low-use overnight areas like the Middle Fork of the Kings and the Hockett Plateau areas. It further recognizes that current and projected visitor use levels pose few threats to wilderness character in the low-use areas under current management, but there may be threats in the popular areas or in areas with sensitive resources that can be mitigated through targeted improvements to current management.

Alternative 3 increases opportunities for primitive recreation by allowing additional use, which is mostly expected to occur at the most popular areas; however, allowing increased use could result in decreased opportunities for solitude wilderness-wide. In addition, the highest use areas would require additional development and restrictions on visitor behavior in order to preserve the natural quality of wilderness.

Alternative 4 emphasizes the undeveloped and non-commercial qualities of Sequoia and Kings Canyon National Parks wilderness. The removal of development and reduction of commercial services would increase the self-reliant nature of wilderness recreation. In order to preserve the natural quality of wilderness, the amount of commercial use would be reduced.

Alternative 5 enhances the quality of solitude available in Sequoia and Kings Canyon National Parks wilderness. The total numbers of permitted visitors and group sizes would be reduced. Reduced use would allow for a reduction in the levels of development and fewer restrictions on visitor behavior.

Decision Process: All comments received on the DEIS/WSP will be duly considered in preparing the Final EIS, which at this time is expected to be available in early 2015. A Record of Decision would be prepared no sooner than 30 days after release of the Final EIS. Because this is a delegated EIS, the official responsible for approval of the Wilderness Stewardship Plan is the Regional Director, Pacific West Region, National Park Service; subsequently the official responsible for implementation of the approved Wilderness Stewardship Plan is the Superintendent, Sequoia and Kings Canyon National Parks.

Dated: May 5, 2014.
Christine S. Lehnertz,
Regional Director, Pacific West Region.

[FR Doc. 2014-15363 Filed 6-30-14; 8:45 am]

BILLING CODE 4312-FF-P